DEPARTMENT OF HEALTH AND HUMAN SERVICES

Food and Drug Administration

[Docket No. FDA-2013-N-1041]

Fibromyalgia Public Meeting on Patient-Focused Drug Development; Rescheduling of Public Meeting; Extension of Comment Period

AGENCY: Food and Drug Administration, HHS.

ACTION: Notice; rescheduling of public meeting; extension of comment period.

SUMMARY: The Food and Drug Administration (FDA) is rescheduling a December 10, 2013, public meeting on Patient-Focused Drug Development for fibromyalgia, announced in the Federal Register on September 23, 2013. Due to inclement weather, the Federal Government was closed on December 10, 2013. We are rescheduling the public meeting to March 26, 2014, and extending the comment period for the public docket.

DATES: The public meeting will be held on March 26, 2014, from 1 p.m. to 5 p.m. Registration to attend the meeting must be received by March 20, 2014. See the SUPPLEMENTARY INFORMATION section for information on how to register for the meeting. Submit either electronic or written comments by May 27, 2014.

ADDRESSES: The meeting will be held at the FDA White Oak Campus, 10903 New Hampshire Ave., Building 31 Conference Center, Sections B and C of the Great Room (rm. 1503), Silver Spring, MD 20993. Entrance for the public meeting participants is through Building 1, where routine security check procedures will be performed. For more information on parking and security procedures, please refer to http://www.fda.gov/AboutFDA/WorkingatFDA/BuildingsandFacilities/WhiteOakCampusInformation/ucm241740.htm.

Submit electronic comments to http://www.regulations.gov. Submit written comments to the Division of Dockets Management (HFA-305), Food and Drug Administration, 5630 Fishers Lane, rm. 1061, Rockville, MD 20852. All comments should be identified with the docket number found in brackets in the heading of this document.

FDA will post the agenda approximately 5 days before the meeting at http://www.fda.gov/ForIndustry/UserFees/PrescriptionDrugUserFee/ucm363203.htm.

FOR FURTHER INFORMATION CONTACT: Graham Thompson, Center for Drug Evaluation and Research, Food and Drug Administration, 10903 New Hampshire Ave., Bldg. 51, rm. 1199, Silver Spring, MD 20993, 301-796-5003, FAX: 301-847-8443, email: Graham.Thompson@fda.hhs.gov.

SUPPLEMENTARY INFORMATION: In the Federal Register of September 23, 2013 (78 FR 58313), FDA announced a public meeting on December 10, 2013, to obtain patients' perspectives on the impact of fibromyalgia on daily life as well as the available therapies for fibromyalgia. Due to the Government closure on December 10, 2013, the meeting was postponed. We are rescheduling the public meeting to March 26, 2014, and extending the comment period to May 27, 2014 (see DATES). For additional information about the purpose of the meeting, topics for discussion, and registration see the September 23, 2013, Federal Register notice.

Dated: February 13, 2014.
Leslie Kux,
Assistant Commissioner for Policy.

[FR Doc. 2014-03587 Filed 2-18-14; 8:45 am]

BILLING CODE 4160-01-P